DEPARTMENT OF THE INTERIOR

Bureau of Land Management

[LLNVL00000.L19900000.EX0000 21X MO #4500150160]

Notice of Availability of the Draft Environmental Impact Statement for the Robinson Mine Plan of Operations Amendment, White Pine County, Nevada

AGENCY: Bureau of Land Management, Interior.

ACTION: Notice of availability.

SUMMARY: In accordance with the National Environmental Policy Act of 1969, as amended (NEPA), and the Federal Land Policy and Management Act of 1976, as amended (FLPMA), the Bureau of Land Management (BLM) Ely District (EYDO), Nevada, has prepared a Draft Environmental Impact Statement (EIS) for the Robinson Mine Plan of Operations Amendment project and by this notice is announcing its availability.

DATES: In order to have comments considered for inclusion in the Final EIS, the BLM must receive comments on the Draft EIS by January 19, 2021, or 45 days following the date that the Environmental Protection Agency publishes its Notice of Availability in the Federal Register, whichever is greater. To maximize the opportunity for public input on this project while prioritizing the health and safety of BLM employees and the interested public, BLM will host online virtual public meetings to provide information and gather input on the project. The date(s) and information about how to login and participate in these virtual meetings will be announced at least 15 days in advance through local media and on the BLM website at https://go.usa.gov/xvYad. To ensure that comments will be considered, the BLM must receive written comments on the Draft EIS within 45 days following the date the Environmental Protection Agency publishes its Notice of Availability in the Federal Register.

ADDRESSES: You may submit comments related to the Robinson Mine Plan of Operations Amendment Draft EIS by any of the following methods:

• Website: https://go.usa.gov/xvYad

• Email: blm_nv_eydo_robinson_eis@blm.gov

• Mail: BLM Ely District Office, ATTN: Project Manager, Tiera Arbogast, 702 North Industrial Way, Ely, Nevada 89301

Documents pertinent to this proposal may be examined at the Ely District Office.

FOR FURTHER INFORMATION CONTACT: Tiera Arbogast, telephone 775-289-1872, or email tarbogast@blm.gov. Contact Ms. Arbogast to have your name added to the mailing list. Persons who use a telecommunications device for the deaf (TDD) may call the Federal Relay Service (FRS) at 1-800-877-8339 to contact Ms. Arbogast during normal business hours. The FRS is available 24 hours a day, 7 days a week, to leave a message or question with the above individual. You will receive a reply during normal business hours. Normal business hours are 7:30 a.m. to 4:30 p.m., Monday through Friday, except for Federal holidays.

SUPPLEMENTARY INFORMATION: This document provides notice that the BLM EYDO, Ely, Nevada, has published a Draft EIS for the Robinson Mine Plan of Operations Amendment project. The Robinson Mine is an 8,887.6 acre copper mining operation adjacent to Ruth, Nevada, seven miles west of Ely, Nevada via U.S. Route 50.

The KGHM Robinson Nevada Mining Company (KGHM Robinson) is proposing additional development at the Robinson Mine to extend mine life approximately 4 additional years beyond its currently anticipated permanent closure in 2024. To accomplish this, the company is proposing renewed mining in the eastern portions of its privately-owned Liberty Pit and a grant by the BLM to access and develop two specific areas of nearby BLM-managed public land on which to dispose newly generated waste rock.

Under the Proposed Action Alternative (Alternative B) the company would develop approximately 260 acres immediately south of the Robinson Mine to serve as the “King” waste rock storage facility. An alternative scenario would allow the company to develop approximately 102 acres of BLM lands and 67 acres of KGHM-owned land adjacent to its existing North Tripp waste rock facility. The company is also considering possible disposal of new waste rock within approximately 160 acres in its privately-owned Ruth East Pit, where no future mining is planned. Lastly, KGHM Robinson is seeking access to 94 private acres and approximately 545 acres of BLM lands adjacent to its existing Giroux Wash Tailings Storage Facility in order to (a) obtain soil material to use in increasing the height of the Giroux Wash main impoundment and the surrounding perimeter dams, and (b) to serve as growth media (e.g., topsoil) storage areas to be used in future reclamation of areas of mining-related surface disturbance.

Under the No Action Alternative (Alternative A) the BLM would not approve the 2019 Robinson Mine Plan of Operations Amendment as written. Although KGHM Robinson could continue mining on their own private lands, no additional expansion onto BLM-managed public lands would be permitted. Without additional areas on which to dispose waste rock generated by continued mining, or the ability to obtain substantial additional volumes of soil to use in increasing the height of the primary impoundment and perimeter dams at the Giroux Wash Tailings Storage Facility (TSF), KGHM Robinson estimates that active operations at the Robinson Mine would cease in 2024.

The Reduced King Waste Rock Dump (WRD) and North Tripp WRD (Alternative C) would keep all project elements described in the 2019 Plan Amendment, including both the North Tripp and King WRDs; however, the allowable footprint of the King WRD would be reduced from the 260 acres under Alternative B to 234 acres under this alternative. Specifically, Alternative C would eliminate all proposed King WRD development east of County Road 44A. The North Tripp WRD would be expanded onto approximately 102 acres of BLM-managed public lands and 67 private acres. As with Alternative B, this alternative would include dewatering and renewed mining in the eastern portions of the Liberty Pit and development of approximately 545 acres of BLM-managed public land and 94 private acres adjacent to the Giroux Wash TSF. This alternative would result in approximately 869 acres of new disturbance on BLM-managed public lands and 237 acres of KGHM-owned private lands, for a total of approximately 1,106 acres of new surface disturbance. As with Alternative B, mine life would be extended to 2028,

The Ruth East Backfill and Reduced King WRD Alternative (Alternative D) is similar to Alternative B, the Proposed Action. Alternative D would include renewed dewatering and expanded mining operations in the eastern portions of the Liberty Pit as well as approval for KGHM Robinson to develop a total of approximately 639 acres of mixed public and private land adjacent to the Giroux Wash TSF. Alternative D, like Alternative C, would include the reduced 234-acre King WRD. Alternative D would, however, not include development of the North Tripp WRD. Rather, additional waste rock generated during continued mining would be disposed within approximately 160 acres of KGHM-owned lands within the Ruth East Pit. Approval of Alternative D would therefore result in approximately 767 acres of new surface disturbance on BLM-managed lands and 330 acres of KGHM-owned private lands, or a total of approximately 1,097 acres. As with Alternatives B and C, mine life would be extended to 2028.

The Notice of Intent for this project included the BLM's proposal to also amend the Ely District Resource Management Plan for Visual Resource Management classes. During scoping, however, the BLM determined that a Resource Management Plan amendment is not required, and therefore it is no longer being analyzed as part of this Draft EIS. On September 14, 2020, The Council on Environmental Quality's revision to the NEPA Regulations went into effect. The final rule does not apply to the NEPA analysis for the Robinson Mine Plan of Operations Amendment, as it began prior to September 14, 2020.

The purpose of the public review and comment process is to seek input on the range of alternatives and analysis of impacts presented in the Draft EIS. You may submit comments in writing to the BLM as shown in the ADDRESSES section above. To be considered, your comments must be submitted by the close of the 45-day comment period.

The BLM has initiated ongoing consultation with Indian tribes on a government-to-government basis in accordance with Executive Order 13175 and other policies. Tribal concerns, including impacts on Indian trust assets and potential impacts to cultural resources, will be given due consideration. The public is encouraged to comment on the range of alternatives and analysis presented in the Draft EIS.

Before including your address, phone number, email address, or other personal identifying information in your comment, you should be aware that your entire comment, including your personal identifying information, may be made publicly available at any time. While you can ask us in your comment to withhold your personal identifying information from public review, we cannot guarantee that we will be able to do so.

Authority: 40 CFR 1501.7 and 43 CFR 1610.2.

Jared Bybee,
Acting Field Manager, Bristlecone Field Office.

[FR Doc. 2020-26671 Filed 12-3-20; 8:45 am]

BILLING CODE 4310-HC-P